NATIONAL SCIENCE FOUNDATION

Notice of Permit Applications Received Under the Antarctic Conservation Act of 1978

AGENCY: National Science Foundation.

ACTION: Notice of Permit Applications Received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 671 of the Code of Federal Regulations. This is the required notice of permit applications received.

DATES: Interested parties are invited to submit written data, comments, or views with respect to this permit application by August 6, 2014. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Li Ling Hamady, ACA Permit Officer, at the above address or ACApermits@nsf.gov or (703) 292-7149.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas as requiring special protection. The regulations establish such a permit system to designate Antarctic Specially Protected Areas.

Application Details

1. Applicant

Dr. Becky Ball, School of Mathematical and Natural Sciences, Arizona State University, 4701 W Thunderbird Road, Glendale, AZ 85306, Permit Application: 2015-004.

Activity for Which Permit Is Requested

ASPA entry, Take, Import to the USA. The applicant plans to take 70 (max) 500 gram soil samples, 5 (5 gram) plant clippings, 5 (15 square cm) moss samples, and 5 (15 square cm) lichen samples per ASPA. This project will identify the soil community at many sites along the Antarctic Peninsula to discover how the community changes with environmental conditions from north to south, and how the soil community at each site differs under different types of plants.

Location

Lagotellerie Island (ASPA 115), Admiralty Bay (ASPA 128), Byers Peninsula (ASPA 126), Biscoe Point (ASPA 139), Green Island (ASPA 108).

Dates

November 1, 2014 to April 30, 2016.

Nadene G. Kennedy,
Polar Coordination Specialist, Division of Polar Programs.

[FR Doc. 2014-15724 Filed 7-3-14; 8:45 am]

BILLING CODE 7555-01-P